DEPARTMENT OF THE INTERIOR

Bureau of Indian Affairs

Proposed Collection of Information; Comment Request

AGENCY: Bureau of Indian Affairs, Interior.

ACTION: Notice.

SUMMARY: This notice announces that the Office of Indian Education Programs is seeking comments on the renewal of the Information Collection Request for the Tribal Colleges and Universities Application for Grants, OMB No. 1076-0018, and the Annual Report Form, OMB No. 1076-0105, as required by the Paperwork Reduction Act of 1995.

DATES: Submit comments on or before March 6, 2006.

ADDRESSES: Written comments should be sent directly to Edward Parisian, Bureau of Indian Affairs, Office of Indian Education Programs, 1849 C Street, NW., Mail Stop 3609-MIB Washington, DC 20240-0001. You may also send comments via facsimile to 202-208-3271.

FOR FURTHER INFORMATION CONTACT: You may request further information or obtain copies of the proposed information collection request from James C. Redman (202) 208-4397 or Keith Neves at (202) 208-3601.

SUPPLEMENTARY INFORMATION: Each Tribal College and University requesting financial assistance and receiving financial assistance is statutorily required to provide information to assess an accounting of amounts and purposes of financial assistance for the preceding academic year as provided for in 25 CFR part 41. The information collection is needed to collect an assessment of performance accountability of Federal funds as required by the Government Performance and Result Act of 1993.

Request for Comments

The Office of Indian Education Programs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 3609, during the hours of 8 a.m. to 4:30 p.m., EST Monday through Friday except for legal holidays. If you wish to have your name and/or address withheld, you must state this prominently at the beginning of your comments. We will honor your request according to the requirements of the law. All comments from organizations or representatives will be available for review. We may withhold comments from review for other reasons.

Information Collection Abstract

OMB Control Number: 1076-0105.

Type of review: Renewal.

Title: Tribal Colleges and Universities Annual Report Form.

Brief Description of collection: The information is mandatory by Public Law 95-471 for the respondent to receive or maintain a benefit, specifically grants for students.

Respondents: Tribal College and University administrators.

Number of Respondents: 26.

Estimated Time per Response: 3 hours.

Frequency of Response: Annually.

Total Annual Burden to Respondents: 78.

Information Collection Abstract

OMB Control Number: 1076-0105.

Type of review: Renewal.

Title: Tribal Colleges and Universities Application for Grants Form.

Brief Description of collection: The information is mandatory by Public Law 95-471 for the respondent to receive or maintain a benefit, i.e., grants for students.

Respondents: Tribal College and University administrators.

Number of Respondents: 26.

Estimated Time per Response: 1 hour.

Frequency of Response: Annually.

Total Annual Burden to Respondents: 26.

Dated: December 22, 2005.
Michael D. Olsen
Acting Principal Deputy Assistant Secretary—Indian Affairs.

[FR Doc. E5-8198 Filed 12-30-05; 8:45 am]

BILLING CODE 4310-6W-P